DEPARTMENT OF ENERGY

Federal Energy Regulatory Commission

[Docket No. CP03-5-000]

National Fuel Gas Supply Corporation; Notice of Application

October 15, 2002.

On October 7, 2002, National Fuel Gas Supply Corporation (National Fuel), 10 Lafayette Square, Buffalo, New York 14203, filed an application in Docket No. CP03-5-000, pursuant to section 7(b) of the Natural Gas Act (NGA), and part 157 of the regulations of the Federal Energy Regulatory Commission (Commission), for authorization to abandon, by sale to Seneca Resources Corporation (Seneca), a portion of Line C along with appurtenances. Seneca is a production affiliate of National Fuel. National Fuel also requests a declaration that these facilities will be exempt gathering facilities following their abandonment, all as more fully set forth in the application which is on file with the Commission and open to public inspection. This filing is available for review at the Commission in the Public Reference Room or may be viewed on the Commission's Web site at http://www.ferc.gov using the “FERRIS” link. Enter the docket number excluding the last three digits in the docket number field to access the document. For Assistance, call (202) 502-8222 or for TTY, (202) 502-8659.

National Fuel states that it proposes to abandon by sale to its affiliate, Seneca, approximately 17.4 miles of its Line C and applicable rights-of-way, easements, permits, and other property interests related thereto, located in Elk and McKean Counties, Pennsylvania. National Fuel has indicated that following the conveyance, Seneca plans to use these sections of Line C as low pressure, high-BTU backbone lines for locally produced gas. National Fuel further states that the abandonment of Line C will have no effect on existing services. National Fuel states that the line will perform a gathering function for Seneca and requests that the Commission determine that the line will be exempt from the Commission's jurisdiction following the sale and transfer to Seneca.

Any questions regarding this application may be directed to David W. Reitz, Assistant General Counsel for National Fuel Gas Supply Corporation, 10 Lafayette Square, Buffalo, New York 14203 at (716) 857-7949 or fax (716) 857-7688.

There are two ways to become involved in the Commission's review of this project. First, any person wishing to obtain legal status by becoming a party to the proceedings for this project should, on or before November 5, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. The Commission strongly encourages electronic filings. See, 18 CFR 385.2001(a)(1)(iii) and instructions on Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-26802 Filed 10-21-02; 8:45 am]

BILLING CODE 6717-01-P